DEPARTMENT OF COMMERCE

Foreign-Trade Zones Board

[B-14-2025]

Foreign-Trade Zone (FTZ) 89; Authorization of Limited Production Activity; GPI Beauty, Inc.; (Plastic Tube Sleeves); Las Vegas, Nevada

On February 21, 2025, GPI Beauty, Inc. submitted a notification of proposed production activity to the FTZ Board for its facility within FTZ 89, in Las Vegas, Nevada.

The notification was processed in accordance with the regulations of the FTZ Board (15 CFR part 400), including notice in the Federal Register inviting public comment (90 FR 11600, Match 10, 2025). On November 14, 2025, the applicant was notified of the FTZ Board's decision that further review of part of the proposed activity is warranted. The FTZ Board authorized the production activity described in the notification on a limited basis, subject to the FTZ Act and the Board's regulations, including section 400.14, and subject to a three-year limited authorization contingent upon GPI Beauty, Inc., providing information annually demonstrating that it continues to source at least 85 percent of its inputs, by value, from domestic sources. If GPI Beauty, Inc. fails to do so, the FTZ Board should reconsider this authorization.

Dated: November 24, 2025.
Elizabeth Whiteman,
Executive Secretary.

[FR Doc. 2025-21261 Filed 11-25-25; 8:45 am]

BILLING CODE 3510-DS-P